DEPARTMENT OF TRANSPORTATION

Federal Aviation Administration

RTCA Special Committee 195: Flight Information Services Communications (FISC)

AGENCY: Federal Aviation Administration (FAA), DOT.

ACTION: Notice of RTCA Special Committee 195 meeting.

SUMMARY: The FAA is issuing this notice to advise the public of a meeting of RTCA Special Committee 195: Flight Information Services Communications (FISC).

DATES: The meeting will be held March 9-11, 2004, starting at 8:30 a.m.

ADDRESSES: The meeting will be held at Department of Transportation (DOT), 400 7th St., SW., Room 4236, Washington, DC 20036.

FOR FURTHER INFORMATION CONTACT: RTCA Secretariat, 1828 L Street, NW., Washington, DC 20036; telephone (202) 833-9339; fax (202) 833-9434; Web site http://www.rtca.org.

SUPPLEMENTARY INFORMATION: Pursuant to section 10(a) (2) of the Federal Advisory Committee Act (Pub. L. 92-463, 5 U.S.C., appendix 2), notice is hereby given for a Special Committee 195 meeting. The agenda will include:

• March 9:

• Opening Plenary Session (Welcome and Introductory Remarks, Approval of Agenda, Approval of Minutes, Review of Action Items)

• Resolve final review and comments (FRAC) of draft DO-267A, Minimum Aviation System Performance Standards (MASPS) for Flight Information Services—Broadcast (FIS-D) Data Link

• March 10:

• Continue resolution of FRAC comments on draft DO-267A

• March 11:

• Continue resolution of FRAC comments on draft DO-267A

• Approve Final draft DO-267A to forward to the RTCA Program Management Committee

• Discuss SC-195 Future Work Plan, including DO-252 and status of Working Group-1

• Closing Plenary Session (Review Action Items, Discussion of Future Workplan, Other Business, Date and Place of Next Meeting, Adjourn)

Attendance is open to the interested public but limited to space availability. With the approval of the chairmen, members of the public may present oral statements at the meeting. Persons wishing to present statements or obtain information should contact the person listed in the FOR FURHTER INFORMATION CONTACT section. Members of the public may present a written statement to the committee at any time.

Issued in Washington, DC, on February 10, 2004.
Robert Zoldos,
FAA System Engineer, RTCA Advisory Committee.

[FR Doc. 04-4195 Filed 2-24-04; 8:45 am]

BILLING CODE 4910-13-M